DEPARTMENT OF LABOR

Mine Safety and Health Administration

[OMB Control No. 1219-0048]

Proposed Revision of a Currently Approved Information Collection; Respirator Program Records

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection for Respirator Program Records.

DATES: All comments must be received by MSHA's Office of Standards, Regulations, and Variances on or before August 26, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0011.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977, as amended (the Mine Act), 30 U.S.C. 813(h), authorizes MSHA to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

In order to fulfill statutory mandates, MSHA requires the collection of information associated with respirator program records. Under the previous 30 CFR 56.5005 and 57.5005, a mine's respirator program must be consistent with the requirements of ANSI Z88.2-1969, published by the American National Standards Institute, entitled “American National Standards Practices for Respiratory Protection ANSI Z88.2-1969,” and approved on August 11, 1969. In the currently approved information collection, MSHA listed three types of information collection—development of respiratory protection program, medical evaluation/fit testing records, and emergency respirator inspection records—and provides the estimated burden for each of the three information collection activities.

A final rule titled “Lowering Miners' Exposure to Respirable Crystalline Silica and Improving Respiratory Protection” (RIN 1219-AB36) and issued on April 18, 2024 (89 FR 28218) made changes related to the currently approved information collection. The final rule amends 30 CFR 56.5005 and 57.5005 to incorporate by reference ASTM F3387-19, entitled “Standard Practice for Respiratory Protection,” because it is the most recent consensus standard developed by experts in government and professional associations on the selection, use, and maintenance for respiratory equipment. The final rule requires that approved respirators be selected, fitted, used, and maintained in accordance with the provision of a written respiratory protection program consistent with the requirements of ASTM F3387-19.

Under the revised 30 CFR 56.5005(b) and 57.5005(b), the ASTM F3387-19 incorporated by reference mandates that metal and nonmetal (MNM) mines where miners must wear respirators have written standard operating procedures (SOPs) for their respiratory programs; such miners who must wear respirators are fit-tested in a medical evaluation to the respirators that they will use; and mines perform emergency respirator inspections, among other safety-related activities. Emergency respirator inspections are regular inspections of respirators reserved for use during emergencies; the inspections are used to ensure that respirators would properly function if needed during an emergency. In the revised information collection, MSHA requires the collection of four types of information in connection with respirators in MNM mines—revised written SOPs governing the selection and use of respirators; medical evaluation/fit testing results; emergency respirators inspection records; and records relating to the respiratory programs, which are all consistent with ASTM F3387-19 requirements.

II. Desired Focus of Comments

MSHA is soliciting comments concerning the proposed information collection related to Respirator Program Records. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Respirator Program Records. MSHA has updated the data with respect to the number of respondents, responses, time burden, and burden costs supporting this information collection request from the previous information collection request.

Type of Review: Revision of a currently approved information collection.

Agency: Mine Safety and Health Administration.

OMB Number: 1219-0048.

Affected Public: Business or other for-profit.

Number of Annual Respondents: 2,305.

Frequency: Annual.

Number of Annual Responses: 43,795.

Annual Time Burden: 23,626 hours.

Annual Other Burden Costs $140,000.

Comments submitted in response to this notice will be summarized and included in the request for Office of Management and Budget approval of the proposed information collection request; they will become a matter of public record and be available at https://www.reginfo.gov.

Song-ae Aromie Noe,
Certifying Officer, Mine Safety and Health Administration.

[FR Doc. 2024-13935 Filed 6-25-24; 8:45 am]

BILLING CODE 4510-43-P